FEDERAL COMMUNICATIONS COMMISSION

[OMB 3060-XXXX]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before November 13, 2017. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control No.: 3060-XXXX.

Title: Sections 15.37(k), 74.851(k), and 74.851(l), Consumer Disclosure and Labeling.

Form No.: N/A.

Type of Review: New collection.

Respondents: Business or other for-profit, and Not-for-profit institutions.

Number of Respondents and Responses: 5,100 respondents; 127,500 responses.

Estimated Time per Response: .25 hours

Frequency of Response: Third party disclosure requirement (disclosure and labeling requirement).

Obligation to Respond: Required to obtain or retain benefits. Statutory authority for this collection of information is contained in 47 U.S.C. 151, 154(i), 154(j), 301, 302a, 303(f), 303(g), and 303(r).

Total Annual Burden: 31,875 hours.

Total Annual Cost: No Cost.

Privacy Act Impact Assessment: No impact(s).

Nature and Extent of Confidentiality: No information is requested that would require assurance of confidentiality.

Needs and Uses: The Commission will submit this information collection to the Office of Management and Budget (OMB) as a new collection after this 60-day comment period to obtain the full three-year clearance from them.

On August 11, 2015, the Commission released the Wireless Microphones Report and Order in Promoting Spectrum Access for Wireless Microphone Operations, Expanding the Economic and Innovation Opportunities of Spectrum Through Incentive Auctions GN Docket No. 14-166 and GN Docket No. 12-268. In this Report and Order, the Commission established certain consumer disclosure and labeling requirements in Sections 15.37(k), 74.851(k), and 74.851(l) relating to wireless microphones and wireless video assist devices; these requirements apply to persons who manufacture, sell, lease, or offer for sale or lease, wireless microphone or video assist devices—either (a) wireless microphones or other low power auxiliary stations (“wireless microphones”) or video assist devices, authorized pursuant to Part 74, Subpart H of the Commission's rules, or (b) unlicensed wireless microphones authorized pursuant to § 15.236—to the extent that these devices have been designed to operate on frequencies that are licensed to 600 MHz service band licensees that obtain licenses in the broadcast television incentive auction. The Commission directed that the Consumer and Governmental Affairs Bureau, following the close of the incentive auction, provide specific language to be used in consumer disclosure. The incentive auction closed on April 13, 2017.

On July 24, 2017, the Consumer and Governmental Affairs Bureau, Wireless Telecommunications Bureau, and the Office of Engineering and Technology of the Federal Communications Commission released an Order, Promoting Spectrum Access for Wireless Microphone Operations, Amendment of Part 15 of the Commission's Rules for Unlicensed Operations in the Television Bands, Repurposed 600 MHz Band, 600 MHz Guard Bands and Duplex Gap, and Channel 37, and, Amendment of Part 74 of the Commission's Rules for Low Power Auxiliary Stations in the Repurposed 600 MHz Band and 600 MHz Duplex Gap, Expanding the Economic and Innovation Opportunities of Spectrum Through Incentive Auctions, Order, GN Docket No. 14-166, ET Docket No. 14-165, and GN Docket No. 12-268. In this Order, the Consumer and Governmental Affairs Bureau, Wireless Telecommunications Bureau, and the Office of Engineering and Technology provided the specific language that must be used in the consumer disclosure required by the Commission in its 2015 Wireless Microphones Report and Order, as set forth in Sections 15.37(k) and 74.851(l) of the Commission's rules. As the Order explains, the consumer disclosure requirement is applicable to persons who manufacture, sell, lease, or offer for sale or lease, wireless microphone or video assist devices to the extent that these devices are capable of operating on the specific frequencies associated with the 600 MHz service band (617-652 MHz/663-698 MHz). This disclosure also informs consumers that, consistent with the Commission's decision in the 2015 Wireless Microphones Report and Order, wireless microphone users must cease any wireless microphone operations in the 600 MHz service band no later than July 13, 2020, and that in many instances they may be required to cease use of these devices earlier if their use has the potential to cause harmful interference to 600 MHz service licensees' wireless operations in the band.

Federal Communications Commission.
Marlene H. Dortch,
Secretary. Office of the Secretary.

[FR Doc. 2017-19532 Filed 9-13-17; 8:45 am]

BILLING CODE 6712-01-P